ENVIRONMENTAL PROTECTION AGENCY

[ER-FRL-9006-2]

Environmental Impacts Statements; Notice of Availability

Responsible Agency: Office of Federal Activities, General Information (202) 564-7146 or http://www.epa.gov/compliance/nepa/.

Weekly Receipt of Environmental Impact Statements

Filed 11/12/2012 Through 11/16/2012

Pursuant to 40 CFR 1506.9.

SUMMARY: Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

EIS No. 20120366, Final EIS, NOAA, CA, Authorization for Incidental Take and Implementation of the Stanford University Habitat Conservation Plan, San Mateo and Santa Clara Counties, CA, Review Period Ends: 12/24/2012, Contact: Gary Stern 707-575-6060.

EIS No. 20120367, Draft EIS, BPA, WA, I-5 Corridor Reinforcement Project, Cowlitz and Clark Counties, WA, Comment Period Ends: 03/01/2013, Contact: Nancy Wittpenn 503-230-3297.

EIS No. 20120368, Draft EIS, BLM, CA, Stateline Solar Farm Project, San Bernardino County, CA, Comment Period Ends: 02/21/2013, Contact: Jeffery Childers 951-697-5308.

EIS No. 20120369, Draft EIS, NOAA, USFWS, CA, Authorization of Incidental Take and Implementation of the Mendocino Redwood Habitat Conservation Plan/Natural Community Conservation and Timber Management Plan, Mendocino County, CA, Comment Period Ends: 02/21/2013, Contact: Eric Shott 707-575-6089 The Department of Commerce's National Oceanic and Atmospheric Administration and the Department of the Interior's Fish and Wildlife Service are joint lead agencies for the above project.

EIS No. 20120370, Draft Supplement, NRC, SD, Dewey-Burdock Project, Supplement to the In-Situ Leach Uranium Milling Facilities, Custer and Fall River Counties, SD, Comment Period Ends: 01/07/2013, Contact: Haimanot Yilma 301-415-8029.

Dated: November 19, 2012.
Cliff Rader,
Director, NEPA Compliance Division, Office of Federal Activities.

[FR Doc. 2012-28483 Filed 11-21-12; 8:45 am]

BILLING CODE 6560-50-P